DEPARTMENT OF JUSTICE

Office of Justice Programs

[OMB Number 1121-0064]

Agency Information Collection Activities: Proposed Collection; Comment Request

ACTION: 60-day notice of information collection under review: Extension of a currently approved collection: Annual Parole Survey, Annual Probation Survey, and Annual Probation Survey (Short Form).

The Department of Justice (DOJ), Office of Justice Programs (OJP), Bureau of Justice Statistics (BJS) will be submitting the following information collection request to the Office of Management and Budget (OMB) for review and approval in accordance with the Paperwork Reduction Act of 1995. The proposed information collection is published to obtain comments from the public and affected agencies. Comments are encouraged and will be accepted for “sixty days” until August 25, 2008. This process is in accordance with 5 CFR 1320.10.

If you have comments especially on the estimated public burden or associated response time, suggestions, or need a copy of the proposed information collection instrument with instructions or additional information, please contact Lauren E. Glaze, Statistician (202) 305-9628, Bureau of Justice Statistics, 810 Seventh St., NW., Washington, DC 20531.

Request written comments and suggestions from the public and affected agencies concerning the proposed collection of information. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility and clarity of the information to be collected; and

(4) Minimize the burden of the collection of information on those who are to respond, including through the use of appropriate automated, electronic, mechanical, or other technological collection techniques or other forms of information technology, e.g. permitting electronic submission of responses.

Overview of This Information Collection:

(1) Type of information collection: Extension of currently approved collection.

(2) The title of the Form/Collection: Annual Parole Survey, Annual Probation Survey, and Annual Probation Survey (Short Form).

(3) The agency form number, if any, and the applicable component of the Department sponsoring the collection: Forms: CJ-7 Annual Parole Survey; CJ-8 Annual Probation Survey; and CJ-8A Annual Probation Survey (Short Form). Corrections Statistics Program, Bureau of Justice Statistics, Office of Justice Programs, United States Department of Justice.

(4) Affected public who will be asked to respond, as well as a brief abstract: Primary: State Departments of Corrections or State probation and Parole authority. Others: The Federal Bureau of Prisons, city and county courts and probation offices for which a central reporting authority does not exist. For the CJ-7 form, 54 central reporters (two State jurisdictions in California and one each from the remaining States, the District of Columbia, the Federal Bureau of Prisons, and one local authority) responsible for keeping records on parolees will be asked to provide information for the following categories:

(a) As of January 1, 2008 and December 31, 2008, the number of adult parolees under their jurisdiction;

(b) The number of adults entering parole during 2008 through discretionary release from prison, mandatory release from prison, a term of supervised release, or reinstatement of parole;

(c) The number of adults released from parole during 2008 through completion, incarceration, treatment, absconder status, transfer to another parole jurisdiction, or death;

(d) Whether the number of adult parolees reported as of December 31, 2008 represents individuals or cases;

(e) Whether adult parolees supervised out of State have been included in the total number of parolees on December 31, 2008, and the number of adult parolees supervised out of State;

(f) As of December 31, 2008, the number of adult parolees under their jurisdiction with a sentence of more than one year, or a year or less;

(g) As of December 31, 2008, the number of male and female adult parolees under their jurisdiction;

(h) As of December 31, 2008, the number of white (not of Hispanic origin), black or African American (not of Hispanic origin), Hispanic or Latino, American Indian or Alaska Native, Asian, Native Hawaiian or Pacific Islander, two or more races, or the number of adult parolees for which no information was available;

(i) As of December 31, 2008, the number of adult parolees who had as their most serious offense a violent, property, drug, public-order, or other offense;

(j) As of December 31, 2008, the number of adult parolees under their jurisdiction who were active, only have financial conditions remaining, inactive, absconders, or supervised out of state;

(k) As of December 31, 2008, the number of adult parolees under their jurisdiction who were supervised following a discretionary release, a mandatory release, a term of supervised release, a special conditional release, or other type of release from prison;

(l) Whether the parole authority supervised any adult parolees who were also on probation supervision, held in local jails, prisons, community-based correctional facilities, or an ICE holding facility, and the number of adult parolees held in each on December 31, 2008;

(m) Whether the parole authority uses GPS monitoring systems to track the location of adult parolees, and the number of adult parolees tracked with GPS on December 31, 2008;

(n) Whether the parole authority collects data on the number of adult paroleess in a treatment program, and the number of adult parolees in treatment programs by type of program;

(o) Whether the parole authority collects data on the number of serious assaults or deaths of parole officers while in the line of duty, and the number of serious assaults or deaths of officers during 2008;

For the CJ-8 form, 344 reporters (one from each State, the District of Columbia, and the Federal Bureau of Prisons; and 292 from local authorities) responsible for keeping records on probations will be asked to provide information for the following categories:

(a) As of January 1, 2008 and December 31, 2008, the number of adult probationers under their jurisdiction;

(b) The number of adults entering probation during 2008 with and without a sentence to incarceration;

(c) The number of adults discharged from probation during 2008 through completion, incarceration, treatment, absconder status, a detainer or warrant, transfer to another parole jurisdiction, and death;

(d) Whether the number of adult probationers reported as of December 31, 2008 represents individuals or cases;

(e) As of December 31, 2008, the number of male and female adult probationers under their jurisdiction;

(f) As of December 31, 2008, the number of white (not of Hispanic origin), black or African American (not of Hispanic origin), Hispanic or Latino, American Indian or Alaska Native, Asian, Native Hawaiian or Pacific Islander, two or more races, or the number of adult probationers for which no information was available;

(g) As of December 31, 2008, the number of adult probationers under their jurisdiction who were sentenced for a felony, misdemeanor, or other offense type;

(h) As of December 31, 2008, the number of adult probationers who had as their most serious offense domestic violence, other violent offense, property offense, drug law violation, driving while intoxicated or under the influence of alcohol or drugs, or other traffic offense;

(i) Whether adult probationers supervised out of State have been included in the total number of probationers on December 31, 2008, and the number of adult probationers supervised out of State;

(j) Whether the probation authority collects data on the number of adult probationers who had previously served a sentence to prison for the same offense for which they are on probation;

(k) Whether the probation authority supervised adult probationers who were also on parole supervision, any probationers held in local jails, prisons, community-based correctional facilities, or an ICE holding facility, and the number of adult probationers held in each on December 31, 2005;

(l) As of December 31, 2008, the number of adult probationers under their jurisdiction who had entered probation with a direct sentence to probation, a split sentence to probation, a suspended sentence to incarceration, or a suspended imposition of sentence;

(m) As of December 31, 2008, the number of adult probationers under their jurisdiction who were active, in a residential or other treatment program, only had financial conditions remaining, inactive, absconders, those on warrant status, or supervised out of state;

(n) Whether the probation authority collects data on the number of adult probationers required to pay fines/restitution, and the number of adult probationers required to pay fines/restitution by type;

(o) Whether the probation authority collects data on the number of adult probationers in a treatment program, and the number of adult probationers in treatment programs by type of program;

(p) Whether the probation authority collects data on the number of serious assaults or deaths of probation officers while in the line of duty, and the number of serious assaults or deaths of officers during 2008;

For the CJ-8A form, 120 reporters (from local authorities) responsible for keeping records on probationers will be asked to provide information for the following categories:

(a) As of January 1, 2008 and December 31, 2008, the number of adult probationers under their jurisdiction;

(b) The number of adults entering probation and discharged from probation during 2008;

(c) Whether the number of adult probationers reported as of December 31, 2008 represents individuals or cases;

(d) As of December 31, 2008, the number of male and female adult probationers under their jurisdiction;

(e) As of December 31, 2008, the number of adult probationers under their jurisdiction who were sentenced for a felony, misdemeanor, or other offense type. The Bureau of Justice Statistics uses this information in published reports and for the U.S. Congress, Executive Office of the President, practitioners, researchers, students, the media, and others interested in criminal justice statistics.

(5) An estimate of the total number of respondents and the amount of time estimated for an average respondent to respond: 518 respondents each taking an average of 1.27 hours to respond.

(6) An estimate of the total public burden (in hours) associated with the collection: 657 annual burden hours.

If additional information is required, contact: Lynn Bryant, Department Clearance Officer, United States Department of Justice, Justice Management Division, Policy and Planning Staff, Patrick Henry Building, Suite 1600, 601 D Street, NW., Washington, DC 20530.

Dated: June 18, 2008.
Lynn Bryant,
Department Clearance Officer, PRA, United States Department of Justice.

[FR Doc. E8-14272 Filed 6-23-08; 8:45 am]

BILLING CODE 4410-18-P